CONSUMER PRODUCT SAFETY COMMISSION

Sunshine Act Meeting

TIME AND DATE: Wednesday, June 20, 2012, 10 a.m.-12 Noon.

PLACE: Room 420, Bethesda Towers, 4330 East-West Highway, Bethesda, Maryland.

STATUS: Commission Meeting—Open to the Public.

Matters To Be Considered

Hearing: Agenda and Priorities for Fiscal Year 2014.

A live webcast of the Meeting can be viewed at www.cpsc.gov/webcast.

For a recorded message containing the latest agenda information, call (301) 504-7948.

CONTACT PERSON FOR MORE INFORMATION: Todd A. Stevenson, Office of the Secretary, U.S. Consumer Product Safety Commission, 4330 East-West Highway, Bethesda, MD 20814, (301) 504-7923.

Dated: June 12, 2012.
Todd A. Stevenson,
Secretary.

[FR Doc. 2012-14665 Filed 6-12-12; 4:15 pm]

BILLING CODE 6355-01-P